DEPARTMENT OF COMMERCE

Submission for OMB Review; Comment Request

DOC has submitted to the Office of Management and Budget (OMB) for clearance the following proposal for collection of information under the provisions of the Paperwork Reduction Act (44 U.S.C. chapter 35).

Agency: Bureau of Economic Analysis.

Title: BEA Customer Satisfaction Survey.

Form Numbers(s): Not applicable.

Agency Approval Number: None.

Type of Request: Reinstatement.

Burden: 125 hours.

Number of Respondents: 500.

Average Hours Per Response: 15 minutes.

Needs and Uses: The Bureau of Economic Analysis (BEA) would like to conduct a Customer Satisfaction Survey to obtain feedback from customers on the quality of BEA products and services. The results of the information collected will serve to assist BEA in improving the quality of its data products and its methods of dissemination.

BEA needs to inform and educate all of its staff about the public's perception of the agency. This customer satisfaction survey will give us first-hand knowledge of what our customers want, need, and expect from BEA. To more effectively inform and educate the public on what we do, how we do it, and why we do it, we need to obtain reliable information on how the public views our output. The results of this survey will serve that purpose.

The Survey and a cover letter with instructions on how to complete the survey will be mailed to 5,000 potential respondents. BEA will request that responses be returned 30 days after the mailing. The survey will also be posted on BEA's Web site for 2,000 potential respondents. The survey will be designed so that all responses are anonymous and therefore eliminates the necessity for record keeping of respondents.

Affected Public: Individuals from profit and non-profit organizations and individuals from other Federal, state, and local government agencies.

Frequency: Annually.

Respondent's Obligation: Voluntary.

Legal Authority: Executive Order 12862, Section (b), of September 11, 1993.

OMB Desk Officer: Paul Bugg, (202) 395-3093.

Copies of the above information collection proposal can be obtained by calling or writing Diana Hynek, Departmental Forms Clearance Officer, Department of Commerce, Room 6625, 14th and Constitution Avenue, NW., Washington, DC 20230, (202) 482-0266, (or via e-mail at dHynek@doc.gov).

Written comments and recommendations for the proposed information collection should be sent within 30 days of publication of this notice to Paul Bugg, OMB Desk Officer, room 10201, New Executive Office Building, Washington, DC 20503.

Dated: February 27, 2004.
Madeleine Clayton,
Management Analyst, Office of the Chief Information Officer.

[FR Doc. 04-4711 Filed 3-2-04; 8:45 am]

BILLING CODE 3510-06-P